NUCLEAR REGULATORY COMMISSION

[Docket Nos. 50-335 and 50-389]

Florida Power and Light Company, et al., St. Lucie, Units 1 and 2; Environmental Assessment and Finding of No Significant Impact

The U.S. Nuclear Regulatory Commission (NRC) is considering issuance of an exemption from Title 10 of the CFR, part 54, section 54.21(b), for Facility Operating License Nos. DPR-67 and NPF-16, issued to Florida Power & Light Company, et al. (the licensee), for operation of St. Lucie, Units 1 and 2, located in St. Lucie County, Florida.

Environmental Assessment

Identification of the Proposed Action

The proposed action would exempt the licensee from the requirement of 10 CFR 54.21(b), which specifies that an applicant (for the purposes of license renewal, the licensee is the applicant) must submit, each year following submittal of the license renewal application (LRA), and at least three months before scheduled completion of the NRC review, amendments to the renewal application that identify any change to the current licensing basis (CLB) of the facility that materially affects the contents of the LRA, including the final safety analysis report (FSAR) supplement.

The NRC staff initiated the proposed action on its own initiative.

The Need for the Proposed Action

In accordance with 10 CFR 54.21(b), the applicant is required to submit an LRA amendment by November 29, 2002, which is one year after the applicant submitted the application, and a second LRA amendment before April 3, 2003, which is three months prior to the scheduled completion of the NRC review. The exemption would allow the applicant to submit a single LRA amendment three months prior to the scheduled completion of the NRC review. The proposed action will reduce the burden on the staff and applicant associated with submitting two LRA amendments in a four month period.

Environmental Impacts of the Proposed Action

The exemption, if granted, will permit the applicant to prepare and submit a single LRA amendment at least three months prior to the scheduled completion of the NRC review. In short, granting of the exemption will not necessitate, or lead to, changes to the as-built plant design, or to existing procedures at St. Lucie, Units 1 and 2.

The staff evaluated potential radiological environmental impacts associated with the exemption. Since no plant design nor procedure changes will be made, no new accident causal mechanisms would be introduced.

The proposed action will not significantly increase the probability or consequences of accidents, no changes are being made in the types of any effluents that may be released off site, and there is no significant increase in occupational or public radiation exposure. Therefore, there are no significant radiological environmental impacts associated with the proposed action.

With regard to the potential nonradiological impacts, the proposed action does not affect any historic sites. The proposed action involves no plant design nor procedure changes, it does not increase or decrease nonradiological plant effluents, and has no other environmental impact from those previously evaluated by the staff in the final environmental statement (FES). Therefore, there are no significant nonradiological environmental impacts associated with the proposed action.

Accordingly, the NRC concludes that there are no significant environmental impacts associated with the proposed action.

Alternatives to the Proposed Action

As an alternative to the proposed action, the staff considered not issuing the exemption (i.e., the “no-action” alternative). Denial of the application would result in no change in current environmental impacts. The environmental impacts of the proposed action and the alternative action are similar.

Alternative Use of Resources

This action does not involve the use of any resources not previously considered in the FES, for the St. Lucie Plant (NUREG-0842).

Agencies and Persons Contacted

In accordance with its stated policy, on October 8, 2002, the staff consulted with Florida State official, William Passetti, Bureau of Radiation Control, regarding the environmental impact of the proposed action. The State official had no comments or objections.

Finding of No Significant Impact

On the basis of the environmental assessment, the NRC concludes that the proposed action will not have a significant effect on the quality of the human environment. Accordingly, the NRC has determined not to prepare an environmental impact statement for the proposed action.

For further details with respect to the proposed action, see the LRA for St. Lucie, Units 1 and 2. Documents may be examined, and/or copied for a fee, at the NRC's Public Document Room (PDR), located at One White Flint North, 11555 Rockville Pike (first floor), Rockville, Maryland. Publicly available records will be accessible electronically from the Agencywide Documents Access and Management System (ADAMS). The ADAMS Public Electronic Reading Room is accessible from the NRC Web site at http//www.nrc.gov/reading-rm/ADAMS.html. Persons who do not have access to ADAMS or who encounter problems in accessing the documents located in ADAMS, should contact the NRC's PDR reference staff at 1-800-397-4229, 301-415-4737, or by e-mail to PDR@NRC.gov.

Dated at Rockville, Maryland, this 6th day of November, 2002.
For the Nuclear Regulatory Commission.
Samson Lee,
Chief, License Renewal Section, License Renewal and Environmental Impacts Program, Division of Regulatory Improvement Programs, Office of Nuclear Reactor Regulation.

[FR Doc. 02-29060 Filed 11-14-02; 8:45 am]

BILLING CODE 7590-01-P